FEDERAL COMMUNICATIONS COMMISSION

47 CFR Part 22

[WT Docket Nos. 12-40 and 10-112; RM-11510, RM-11660; FCC 17-27]

Cellular Service, Including Changes in Licensing of Unserved Area

AGENCY: Federal Communications Commission.

ACTION: Final rule; announcement of effective date.

SUMMARY: In this document, the Federal Communications Commission (Commission) announces that the Office of Management and Budget (OMB) has approved, for a period of three years, the information collection requirements associated with the Commission's Second Report and Order and Report and Order, WT Docket Nos. 12-40 and 10-112, RM 11510 and 11660, FCC 17-27, including implementation of modified collection requirements on FCC Form 601, FCC Application for Radio Service Authorization. This document is consistent with the Second Report and Order and Report and Order, which stated that the Commission would publish a document in the Federal Register announcing OMB approval and the effective date of the requirements.

DATES: 47 CFR 22.317, 22.911(a) through (c), 22.913(a), (c), and (f), 22.947, and 22.953(c), published at 82 FR 17570, April 12, 2017, and revised FCC Form 601, FCC Application for Radio Service Authorization, are effective on December 1, 2017.

FOR FURTHER INFORMATION CONTACT: For additional information, contact Cathy Williams, Cathy.Williams@fcc.gov, (202) 418-2918.

SUPPLEMENTARY INFORMATION: This document announces that, on October 2, 2017, OMB approved revised FCC Form 601, FCC Application for Radio Service Authorization, and the revised information collection requirements contained in the Commission's Second Report and Order and Report and Order, FCC 17-27, published at 82 FR 17570, April 12, 2017. The OMB Control Numbers are 3060-0508 and 3060-0798. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Numbers, 3060-0508 and 3060-0798, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on October 2, 2017, for the revised FCC Form 601, FCC Application for Radio Service Authorization, and the revised information collection requirements contained in the Commission's rules at 47 CFR 22.317, 22.911(a) through (c), 22.913(a), (c), and (f), 22.947, and 22.953(c). Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0508 and 3060-0798.

The foregoing notice is required by the Paperwork Reduction Act of 1995, Public Law 104-13, October 1, 1995, and 44 U.S.C. 3507.

The total annual reporting burdens and costs for the respondents are as follows:

OMB Control Number: 3060-0508.

OMB Approval Date: October 2, 2017.

OMB Expiration Date: October 31, 2020.

Title: Parts 1 and 22 Reporting and Recordkeeping Requirements.

Form Number: Not applicable.

Type of Review: Revision of a currently approved collection.

Respondents: Business or other for-profit entities, Individuals or households, and State, Local or Tribal Governments.

Number of Respondents and Responses: 15,465 respondents; 16,183 responses.

Estimated Time per Response: 0.017-10 hours

Frequency of Response: Recordkeeping requirement; On occasion, quarterly, and semi-annual reporting requirements.

Obligation to Respond: Required to obtain or retain benefits. The statutory authority for this collection is contained in 47 U.S.C. 154, 222, 303, 309 and 332.

Total Annual Burden: 4,406 hours.

Annual Cost Burden: $19,138,350.

Privacy Act Impact Assessment: Yes.

Nature and Extent of Confidentiality: There is no need for confidentiality with this collection of information. The information to be collected will be made available for public inspection. Applicants may request materials or information submitted to the Commission be given confidential treatment under 47 CFR 0.459 of the Commission's rules.

Needs and Uses: The Federal Communications Commission (Commission) received approval for a revision of OMB Control No. 3060-0508 from the Office of Management and Budget (OMB). The purpose of this revision was to obtain OMB approval of rules applicable to part 22 800 MHz Cellular Radiotelephone (“Cellular”) Service licensees and applicants, as adopted by the Commission in a Second Report and Order and Report and Order (Second Report and Order) on March 23, 2017 (WT Docket Nos. 12-40 and 10-112; RM Nos. 11510 and 11660; FCC 17-27). By the Second Report and Order, the Commission revised or eliminated certain licensing rules and modernized outdated technical rules applicable to the Cellular Service. Specifically, in addition to rule revisions that do not affect this information collection, the Commission revised the Cellular radiated power rules, giving licensees the option to comply with effective radiated power limits based on power spectral density (PSD), and giving licensees the additional option to operate at PSD limits above a specified threshold (Higher PSD Limits) so long as certain conditions are met. One of these conditions, set forth in a new provision of the Cellular rules, is a requirement for written advance notification to public safety entities within a specified radius of the cell sites to be deployed at the Higher PSD Limits. This third-party disclosure requirement is an important component of the Commission's approach to protecting public safety entities from increased potential for unacceptable interference to their communications. Also of relevance to this information collection, the Commission eliminated the requirement for filings for certain changes to cell sites in a Cellular system.

The information collected is used to determine, on a case-by-case basis, whether or not to grant licenses authorizing construction and operation of wireless telecommunications facilities to common carriers. Further, this information is used to develop statistics about the demand for various wireless licenses and/or the licensing process itself, and occasionally for rule enforcement purposes.

OMB Control No.: 3060-0798.

OMB Approval Date: October 2, 2017.

OMB Expiration Date: October 31, 2020.

Title: FCC Application for Radio Service Authorization: Wireless Telecommunications Bureau; Public Safety and Homeland Security Bureau.

Form No.: FCC Form 601.

Respondents: Individuals or households; Business or other for-profit entities; Not-for-profit institutions; State, local, or Tribal Governments.

Number of Respondents and Responses: 253,320 respondents and 253,320 responses.

Estimated Time per Response: 0.5-1.25 hours.

Frequency of Response: Recordkeeping requirement, third party disclosure requirement, on occasion reporting requirement and periodic reporting requirement.

Obligation to Respond: Required to obtain or retain benefits. The statutory authority for this collection of information is contained in 47 U.S.C. 151, 152, 154, 154(i), 155(c), 157, 201, 202, 208, 214, 301, 302a, 303, 307, 308, 309, 310, 311, 314, 316, 319, 324, 331, 332, 333, 336, 534, 535, and 554.

Total Annual Burden: 222,055 hours.

Total Annual Cost: $71,306,250.

Nature and Extent of Confidentiality: In general there is no need for confidentiality with this collection of information.

Privacy Act Impact Assessment: Yes.

Needs and Uses: FCC Form 601 is a consolidated, multi-part application form that is used for market-based and site-based licensing for wireless telecommunications services, including public safety licenses, which are filed through the Commission's Universal Licensing System (ULS). FCC Form 601 is composed of a main form that contains administrative information and a series of schedules used for filing technical and other information. This form is used to apply for a new license, to amend or withdraw a pending application, to modify or renew an existing license, cancel a license, request a duplicate license, submit required notifications, request an extension of time to satisfy construction requirements, or request an administrative update to an existing license (such as mailing address change), request a Special Temporary Authority or Developmental License. Respondents are encouraged to submit FCC Form 601 electronically and are required to do so when submitting FCC Form 601 to apply for an authorization for which the applicant was the winning bidder in a spectrum auction.

The data collected on FCC Form 601 includes the FCC Registration Number (FRN), which serves as a “common link” for all filings an entity has with the FCC. The Debt Collection Improvement Act of 1996 requires entities filing with the Commission use an FRN.

On November 7, 2014, the Federal Communications Commission (Commission”) released a Report and Order and Further Notice of Proposed Rulemaking (FCC 14-181) in WT Docket No. 12-40 to reform its rules governing the 800 MHz Cellular Radiotelephone (Cellular) Service (see 79 FR 76268). Subsequently, on March 24, 2017, the Commission released a Second Report and Order (FCC 17-27) in that same proceeding, revising certain technical and licensing rules applicable to the Cellular Service (see 82 FR 17570). In addition to rule revisions that do not affect this information collection, in the Second Report and Order, the Commission adopted revised radiated power rules, giving Cellular licensees the option to comply with effective radiated power limits based on power spectral density (PSD), and it made conforming changes to related technical provisions to accommodate PSD. The Commission retained, as an option, the existing radiated power limits (non-PSD) and related technical requirements for Cellular licensees that either cannot or choose not to use a PSD model. The Commission also revised the definition and filing requirements for permanent discontinuance of operations, consistent with transitioning the Cellular Service from a site-based regime to one that is geographic-based.

The Commission received approval from OMB for revisions to its currently approved collection of information under OMB Control Number 3060-0798 to permit the collection of PSD-related technical information (in lieu of certain non-PSD technical information) for Cellular Service licensees that opt to use a PSD model for their systems, pursuant to the Second Report and Order. The OMB approval under this same Control Number 3060-0798 included a revised FCC Form 601, most notably a revised Schedule F of the Form, implementing the technical rule changes adopted in the Second Report and Order and thereby allowing licensees to use the Form to make filings regarding their licenses based on PSD operations. The revisions did not have any impact on the burden to complete FCC Form 601, including Schedule F of the Form.

Federal Communications Commission.
Marlene H. Dortch,
Secretary, Office of the Secretary.

[FR Doc. 2017-25413 Filed 11-22-17; 8:45 am]

BILLING CODE 6712-01-P